DEPARTMENT OF HEALTH AND HUMAN SERVICES

National Institutes of Health

Warren G. Magnuson Clinical Center; Amended Notice of Meeting

Notice is hereby given of a change in the meeting of the Board of Governors of the Warren Grant Magnuson Clinical Center, March 22, 2002 9 AM to March 22, 2002 1 PM, National Institutes of Health, Clinical Center, Medical Board Room 2C116, 9000 Rockville Pike, Bethesda, MD 20892 which was published in the Federal Register on March 7, 2002, 67 FR 10429.

The meeting will be closed from 10:30 AM to 1 PM to the public in accordance with the provisions set forth in section 552b(c)(9)(B), Title 5 U.S.C., as amended because the premature disclosure of the information and the discussions would be likely to significantly frustrate implementation of any proposed agency action.

Dated: March 21, 2002.
LaVerne Y. Stringfield,
Director, Office of Federal Advisory Committee Policy.

[FR Doc. 02-7614 Filed 3-28-02; 8:45 am]

BILLING CODE 4140-01-M